DEPARTMENT OF TRANSPORTATION

Federal Aviation Administration

[Summary Notice No. PE-2001-96]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC., on January 11, 2002.
Donald P. Byrne,
Assistant Chief Counsel for Regulations.

Dispositions of Petitions

Docket No.: FAA-2001-11089 (previously Docket No. 28660).

Petitioner: Collings Foundation.

Section of 14 CFR Affected: 14 CFR 91.315, 91.319(a), 119.5(g), and 119.21(a).

Description of Relief Sought/Disposition: To permit Collings to operate its Boeing B-17 aircraft, which is certificated in the limited category, for the purpose of carrying passengers on local flights for compensation or hire. Grant, 12/13/2001, Exemption No. 6540D

Docket No.: FAA-2001-10831.

Petitioner: Pomona Valley Pilots Association.

Section of 14 CFR Affected: 14 CFR 135.251, 135.255, 135.353, and appendixes I and J to part 121.

Description of Relief Sought/Disposition: To permit PVPA to conduct local sightseeing flights at Cable Airport, Upland, California, during January 2002, for compensation or hire, without complying with certain anti-drug and alcohol misuse prevention requirements of part 135. Grant, 12/11/2001, Exemption No. 7682

Docket No.: FAA-2001-11081.

Petitioner: Merlin Airways.

Section of 14 CFR Affected: 14 CFR 135.143(c)(2).

Description of Relief Sought/Disposition: To permit Merlin to operate certain aircraft under part 135 without a TSO-C112 (Mode S) transponder installed in the aircraft. Grant, 12/11/2001, Exemption No. 7681

Docket No. 30155.

Petitioner: University of Oklahoma Department of Aviation.

Section of 14 CFR Affected: 14 CFR 141.36(b)(2)(i), (c)(3)(i), (d)(1), and (d)(2)(i).

Description of Relief Sought/Disposition: To permit ODA to use an assistant chief flight instructor (1) who has not had at least 1 year of flight instructor training experience for a course of training leading to the issuance of a recreational or private pilot certificate or rating, (2) who has not had at least 1 year of instrument flight instructor training experience for a course of training leading to the issuance of an instrument rating or a certification with instrument privileges, and (3) who has not had at least 1,000 hours as pilot in command and 1½ years of flight instructor training experience for a course of training leading to the issuance of other than a recreational or private pilot certificate or rating, or an instrument rating or a certificate with instrument privileges, Denial, 12/07/2001, Exemption No. 7683.

Docket No.: FAA-2001-11129.

Petitioner: Heartland Aviation, Inc.

Section of 14 CFR Affected: 14 CFR 135.143(c)(2).

Description of Relief Sought/Disposition: To permit Heartland to operate certain aircraft under part 135 without a TSO-C112 (Mode S) transponder installed in the aircraft. Grant, 12/14/2001, Exemption No. 7684

Docket No.: FAA-2001-11050.

Petitioner: Big Sky Transportation dba Big Sky Airlines.

Section of 14 CFR Affected: 14 CFR 135.143(c)(2).

Description of Relief Sought/Disposition: To permit BSA to operate certain aircraft under part 135 without a TSO-C112 (Mode S) transponder installed in the aircraft. Grant, 12/19/2001, Exemption No. 7685

[FR Doc. 02-1161 Filed 1-15-02; 8:45 am]

BILLING CODE 4910-13-M